DEPARTMENT OF AGRICULTURE

Forest Service

AGENCY: Notice of Resource Advisory Committee, Custer, South Dakota, USDA Forest Service.

ACTION: Notice of meeting.

SUMMARY: Pursuant to authorities in the Federal Advisory Committee Act (Law 92-463) and Public Law 110-343, enacted on October 3, 2008, reauthorizing and amending the Secure Rural Schools and Community Self Determination Act of 2000 (Pub. L. 106-393), the Black Hills National Forest Custer County Resource Advisory Committee will meet on Wednesday, June 24, 2009 in Custer, South Dakota. The meeting is open to the public.

SUPPLEMENTARY INFORMATION: The meeting on June 24, 2009 will begin at 5:30 p.m. at the Black Hills National Forest Supervisor's Office at 25041 North Highway 16, Custer, South Dakota. Agenda topics will be Project status update and general business.

FOR FURTHER INFORMATION CONTACT: Lynn Kolund, Hell Canyon District Ranger and Designated Federal Official, at 605-673-4853.

Lynn Kolund,
District Ranger.

[FR Doc. E9-14619 Filed 6-19-09; 8:45 am]

BILLING CODE M